DEPARTMENT OF VETERANS AFFAIRS

[OMB Control No. 2900-0458]

Agency Information Collection Activity Under OMB Review: Certification of School Attendance or Termination

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0458.”

FOR FURTHER INFORMATION CONTACT: Maribel Aponte, Office of Enterprise and Integration, Data Governance Analytics (008), 1717 H Street NW, Washington, DC 20006, (202) 266-4688 or email maribel.aponte@va.gov. Please refer to “OMB Control No. 2900-0458” in any correspondence.

SUPPLEMENTARY INFORMATION:

Authority: 38 U.S.C. 101 (4).

Title: Certification of School Attendance or Termination (VA Forms 21-8960 and 21-8960-1).

OMB Control Number: 2900-0458.

Type of Review: Reinstatement of a previously approved collection.

Abstract: VA compensation and pension programs require current information to determine eligibility for benefits. VA Forms 21-8960 and 21-8960-1 solicit information that is needed to determine continued benefit eligibility for schoolchildren between the ages of 18 and 23. If the collection were not conducted or were conducted less frequently, VA would be unable to verify continued entitlement in a timely manner, and increased overpayments would result.

The burden estimate for VA Forms 21-8960 and 21-8960-1 has decreased as the number of respondent total has reduced over the past year.

An agency may not conduct or sponsor, and a person is not required to respond to a collection of information unless it displays a currently valid OMB control number. The Federal Register Notice with a 60-day comment period soliciting comments on this collection of information was published at 86 FR 35 on February 24, 2021, pages 11385 and 11386.

Affected Public: Individuals or Households.

Estimated Annual Burden: 1,543.

Estimated Average Burden per Respondent: 10 minutes.

Frequency of Response: Once.

Estimated Number of Respondents: 9,259.

By direction of the Secretary.
Maribel Aponte,
VA PRA Clearance Officer, Office of Enterprise and Integration, Data Governance Analytics, Department of Veterans Affairs.

[FR Doc. 2021-10032 Filed 5-11-21; 8:45 am]

BILLING CODE 8320-01-P